DEPARTMENT OF HEALTH AND HUMAN SERVICES

National Institutes of Health

Office of the Director, National Institutes of Health; Notice of Meeting

Pursuant to section 10(a) of the Federal Advisory Committee Act, as amended (5 U.S.C. App.), notice is hereby given of a meeting of the Advisory Committee to the Deputy Director for Intramural Research, National Institutes of Health.

The meeting will be open to the public, with attendance limited to space available. Individuals who plan to attend and need special assistance, such as sign language interpretation or other reasonable accommodations, should notify the Contact Person listed below in advance of the meeting.

Name of Committee: Advisory Committee to the Deputy Director for Intramural Research, National Institutes of Health.

Date: November 4, 2013.

Time: 1:30 p.m. to 3:00 p.m.

Agenda: To discuss site visit report.

Place: National Institutes of Health, Conf. Line: 888-282-0367 Code: 13831, One Center Drive, Rm. 160, Bethesda, MD 20892, (Telephone Conference Call).

Contact Person: Michael M Gottesman, Deputy Director for Intramural Research, National Institutes of Health, One Center Drive, Rm. 160, Bethesda, MD 20892, (301) 496-1921.

This meeting notice may be published less than 15 days in advance of the meeting due to the October 2013 Government shutdown.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: October 17, 2013.
Anna Snouffer,
Deputy Director, Office of Federal Advisory Committee Policy.

[FR Doc. 2013-24821 Filed 10-22-13; 8:45 am]

BILLING CODE 4140-01-P